DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

PRT-022015

Applicant: The Cincinnati Zoo, Cincinnati, OH

The applicant requests a permit to import and export one captive-born male cheetah (Acinonyx jubatus) from and to the Toronto Zoo, Toronto, Ontario, Canada, for the purpose of enhancement of the survival of the species through propagation.

PRT-022132

Applicant: Triple S Game Farm, Edmond, OK

The applicant requests a permit to import one captive-hatched male Cabot's tragopan (Tragopan caboti) from Glen Howe, Ontario, Canada, for the purpose of enhancement of the survival of the species through propagation.

PRT-022370

Applicant: International Center for Gibbons Studies, Santa Clarita, CA

The applicant requests a permit to import one captive-born female Java gibbon (Hylobates moloch) from the Perth Zoo, Perth, Australia, for the purpose of enhancement of the survival of the species through propagation.

PRT-022426

Applicant: Zoological Society of Cincinnati, Cincinnati, OH

The applicant requests a permit to export semen samples collected from one captive-bred Sumatram orangutan (Pongo oygmaeus abelii) to the Singapore Zoo, for the purpose of enhancement of the survival of the species through scientific research and propagation.

PRT-022092

Applicant: University of Wisconsin Zoological Museum, Madison, WI

The applicant requests a permit to re-export the salvaged skeleton of a brown pelican (Pelecanus occidentalis) to the Catholic University, Quito, Ecuador, for the purpose of enhancement of the survival of the species through scientific research.

Written data or comments should be submitted to the Director, U.S. Fish and Wildlife Service, Office of Management Authority, 4401 North Fairfax Drive, Room 700, Arlington, Virginia 22203 and must be received by the Director within 30 days of the date of this publication.

The public is invited to comment on the following application for a permit to conduct certain activities with marine mammals. The application was submitted to satisfy requirements of the Marine Mammal Protection Act of 1972, as amended (16 U.S.C. 1361 et seq.) and the regulations governing marine mammals (50 CFR 18).

PRT-022027

Applicant: Horst J. Baier, Miami, Fl

The applicant requests a permit to import a sport-hunted polar bear (Ursus maritimus) taken in March 1999 from the Beaufort Sea-Poulatuk polar bear population, Northwest Territories, Canada, for personal use.

Written data, comments or requests for copies of these complete applications or requests for a public hearing on these applications should be sent to the U.S. Fish and Wildlife Service, Office of Management Authority, 4401 N. Fairfax Drive, Room 700, Arlington, Virginia 22203. These requests must be received within 30 days of the date of publication of this notice. Anyone requesting a hearing should give specific reasons why a hearing would be appropriate. The holding of such a hearing is at the discretion of the Director.

Documents and other information submitted with these applications are available for review, subject to the requirements of the Privacy Act and Freedom of Information Act, by any party who submits a written request for a copy of such documents to the following office within 30 days of the date of publication of this notice: U.S. Fish and Wildlife Service, Office of Management Authority, 4401 Fairfax Drive, Room 700, Arlington, Virginia 22203. Phone: (703/358-2104); FAX: (703/358-2281).

Dated: February 4, 2000.
Margaret Tieger,
Acting Chief, Branch of Permits, Office of Management Authority.

[FR Doc. 00-3081 Filed 2-9-00; 8:45 am]

BILLING CODE 4310-55-P